DEPARTMENT OF JUSTICE

Bureau of Alcohol, Tobacco, Firearms and Explosives

Agency Information Collection Activities: Proposed Collection; Comments Requested

ACTION: 60-day notice of information collection under review: a national repository for the collection and inventory of information related to arson and the criminal misuse of explosives.

The Department of Justice (DOJ), Bureau of Alcohol, Tobacco, Firearms and Explosives (ATF), has submitted the following information collection request to the Office of Management and Budget (OMB) for review and approval in accordance with the Paperwork Reduction Act of 1995. The proposed information collection is published to obtain comments from the public and affected agencies. Comments are encouraged and will be accepted for “sixty days” until February 25, 2005. This process is conducted in accordance with 5 CFR 1320.10.

If you have comments, especially on the estimated public burden or associated response time, suggestions, or need a copy of the proposed information collection instrument with instructions or additional information, please contact Jesse Chester, Chief, Arson and Explosives National Repository Branch, Suite 280, Judiciary Square Federal Building, 650 Massachusetts Avenue, NW., Washington, DC 20226.

Written comments and suggestions from the public and affected agencies concerning the proposed collection of information are encouraged. Your comments should address one or more of the following four points:

—Evaluate whether the proposed collection of information is necessary for the proper performance of the functions of the agency, including whether the information will have practical utility;

—Evaluate the accuracy of the agencies' estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: A National Repository for the Collection and Inventory of Information Related to Arson and the Criminal Misuse of Explosives.

(3) Agency Form Number, if Any, and the Applicable Component of the Department of Justice Sponsoring the Collection: Form Number: None. Bureau of Alcohol, Tobacco, Firearms and Explosives.

(4) Affected Public Who Will Be Asked or Required To Respond, as Well as a Brief Abstract: Primary: State, Local or Tribal Government. Other: Federal Government. The Federal explosive laws require all Federal agencies to report to the Attorney General (AG) information relating to arson and criminal misuse of explosives for entry into a national repository. In addition, the law provides that such a repository will contain information on arson and explosives incidents voluntarily reported to the Attorney General by State, Local or Tribal authorities. The ATF National Repository maintains all explosive incident databases within the Department.

(5) An Estimate of the Total Number of Respondents and the Amount of Time Estimated for an Average Respondent to Respond: It is estimated that 2,000 respondents will report the information within approximately 10 minutes.

(6) An Estimate of the Total Public Burden (in Hours) Associated With the Collection: There are an estimated 333 annual total burden hours associated with this collection.

If additional information is required contact: Brenda E. Dyer, Department Clearance Officer, Policy and Planning Staff, Justice Management Division, Department of Justice, Patrick Henry Building, Suite 1600, 601 D Street NW., Washington, DC 20530.

Dated: December 20, 2004.
Brenda E. Dyer,
Department Clearance Officer, Department of Justice.

[FR Doc. 04-28177 Filed 12-23-04; 8:45 am]

BILLING CODE 4410-FY-P